DEPARTMENT OF THE TREASURY

Internal Revenue Service

26 CFR Parts 41, 48 and 145

[REG-103829-99]

RIN 1545-AX10

Excise Taxes; Definition of Highway Vehicle

AGENCY: Internal Revenue Service (IRS), Treasury.

ACTION: Withdrawal of notice of proposed rulemaking.

SUMMARY: This document withdraws a proposed regulation relating to the definition of a highway vehicle for purposes of various excise taxes. The withdrawal affects vehicle manufacturers, dealers, and lessors; tire manufacturers; sellers and buyers of certain motor fuels; and operators of heavy highway vehicles.

FOR FURTHER INFORMATION CONTACT: Barbara Franklin, (202) 662-3130 (not a toll-free number).

SUPPLEMENTARY INFORMATION:

Background

On June 6, 2002, a notice of proposed rulemaking was published in the Federal Register (67 FR 38913). A public hearing was held on February 27, 2003. This notice of proposed rulemaking proposed amending the definition of “highway vehicle” for purposes of the Highway Use Tax Regulations (26 CFR part 41), the Manufacturers and Retailers Excise Tax Regulations (26 CFR part 48), and the Temporary Excise Tax Regulations Under the Highway Revenue Act of 1982 (Pub. L. 97-424) (26 CFR part 145).

Sections 851 and 852 of the American Jobs Creation Act of 2004 (Pub. L. 108-357) addressed the issues raised in the proposed regulation. Thus, the proposed regulation is unnecessary.

List of Subjects

26 CFR Part 41

Excise taxes, Motor Vehicles, Reporting and recordkeeping requirements.

26 CFR Parts 48 and 145

Excise taxes, Reporting and recordkeeping requirements.

Withdrawal of Notice of Proposed Rulemaking

Accordingly, under the authority of 26 U.S.C. 7805, the notice of proposed rulemaking (REG-103829-99) that was published in the Federal Register on June 6, 2002 (67 FR 38913), is withdrawn.

Mark E. Matthews,
Deputy Commissioner for Services and Enforcement.

[FR Doc. 05-15959 Filed 8-11-05; 8:45 am]

BILLING CODE 4830-01-P